DEPARTMENT OF THE INTERIOR

Bureau of Land Management

[LLMTC030-L16100000-DO0000]

Notice of Intent To Prepare a Resource Management Plan and Associated Environmental Impact Statement for the North Dakota Field Office, North Dakota

AGENCY: Bureau of Land Management, Interior.

ACTION: Notice of intent.

SUMMARY: Pursuant to the Federal Land Policy and Management Act of 1976 (FLPMA), and the National Environmental Policy Act of 1969 (NEPA), as amended, the Bureau of Land Management (BLM) North Dakota Field Office intends to prepare a Resource Management Plan (RMP) with an associated Environmental Impact Statement (EIS) for BLM public lands and resources managed by the North Dakota Field Office in North Dakota. Through this notice public scoping is being announced to solicit public comments and assist with identification and development of planning issues. The RMP will replace the existing North Dakota RMP, dated April 1988, as amended.

DATES: This notice initiates the public scoping process for the RMP and associated EIS. Comments and resources information should be submitted by August 27, 2020. A series of public scoping meetings will be held in the planning area. Meeting times and locations will be announced 15 days prior to each event through local news media, newsletters, and at the BLM e-Planning website at https://eplanning.blm.gov and search: North Dakota Resource Management Plan Revision.

Formal scoping comments should be submitted prior to the close of the scoping period. The BLM will provide additional opportunities for public participation upon publication of the Draft RMP/EIS.

ADDRESSES: Documents related to the proposal may be viewed at the North Dakota Field Office, 99 23rd Ave. West, Suite A, Dickinson, ND 58601, during regular business hours from 8:00 a.m. to 4:30 p.m., Monday through Friday, except holidays, or online at: https://eplanning.blm.gov. Written public comments and input may be submitted by any of the following methods:

• Website: https://eplanning.blm.gov.

• Mail: North Dakota Field Office, Attention: North Dakota RMP, 99 23rd Ave. West, Suite A, Dickinson, ND 58601.

FOR FURTHER INFORMATION CONTACT: Kristine Braun, RMP Project Manager, North Dakota Field Office, at telephone: (701) 227-7725, or at the mailing address and website listed earlier. Persons who use a telecommunications device for the deaf (TDD) may call the Federal Relay Service (FRS) at 1-800-877-8339 to contact Ms. Braun during normal business hours. The FRS is available 24 hours a day, 7 days a week, to leave a message or question. You will receive a reply during normal business hours.

SUPPLEMENTARY INFORMATION: This document provides notice that the BLM intends to prepare an RMP with an associated EIS, for BLM-administered lands and resources located in North Dakota. This notice also announces the beginning of the scoping process and seeks public input on issues, planning criteria, and nominations for Areas of Critical Environmental Concern (ACEC).

The RMP/EIS will fulfill the needs and obligations set forth by FLPMA, NEPA, and BLM management policies. The North Dakota planning area comprises approximately 58,900 acres of BLM-managed surface lands and approximately 4.6 million acres of BLM-administered Federal minerals. The bulk of the Federal mineral estate is coal. Additional acres are Federal oil and gas reserves only. The remaining acres are comprised of all minerals, coal and oil and gas only, and other reservations. The focus of the North Dakota Field Office has been mineral management on split estate lands (private surface and Federal minerals).

The BLM will work collaboratively with interested parties and cooperating agencies to identify the management decisions that are best suited to local, regional, tribal and national needs and concerns. The public scoping process will identify, develop, and refine planning issues and planning criteria, including an evaluation of the existing RMP, in the context of the needs and interests of the public. Planning issues and criteria will guide the planning process. Comments on issues and planning criteria may be submitted in writing to the BLM at any public scoping meeting or by using one of the methods listed earlier.

Preliminary issues, management concerns and planning criteria have been identified by BLM personnel and other agencies. This information represents the BLM's knowledge to date regarding the existing issues and concerns with current land management. The preliminary issues that will be addressed in this planning effort include:

• Minerals and energy development

• Vegetation management (including noxious weeds and invasive species management);

• Fish and wildlife habitat;

• Air quality;

• Recreation and visitor services;

• Livestock grazing;

• Lands and realty authorizations; and

• Special management area designations (including nominations for ACECs and comments specific to ACECs and other special designation areas).

After public comments are gathered regarding issues the RMP/EIS should address, they will be placed in one of three categories:

1. Issues to be resolved in the RMP/EIS;

2. Issues to be resolved through policy or administrative action; or

3. Issues beyond the scope of the RMP/EIS.

Rationale will be provided in the RMP/EIS for each comment placed in category two or three. In addition to these issues, a number of management concerns will be addressed in the RMP/EIS. The public is encouraged to help identify these questions and concerns during the scoping phase.

The following preliminary planning criteria have been proposed to guide development of the RMP/EIS, avoid unnecessary data collection and analyses, and ensure the RMP/EIS is tailored to the issues. Other criteria may be identified during the public scoping process. After gathering comments on preliminary planning criteria, the BLM will finalize the criteria and provide feedback to the public on the criteria to be used throughout the planning process. Some of the planning criteria that are under consideration include:

• The plan will be completed in compliance with FLPMA and all other applicable laws.

• The plan will recognize valid existing rights.

• The planning process will include an EIS that will comply with NEPA.

• The plan will establish new guidance and identify existing guidance upon which the BLM will rely in managing public lands within the North Dakota Field Office.

• The planning process will include early coordination and Endangered Species Act (ESA) consultation meetings with the U.S. Fish and Wildlife Service during the development of the plan.

• The plan will recognize the State's responsibility to manage wildlife populations, including uses such as hunting and fishing, within the planning area.

• The planning process would involve American Indian tribal governments and tribal leaders and would provide strategies for the protection of recognized traditional and cultural uses.

• Decisions in the plan will strive to be compatible with the existing plans and policies of adjacent local, State, tribal, and Federal agencies as long as the decisions are in conformance with legal mandates on management of public lands.

Before including your address, phone number, email address, or other personally identifiable information in your protest, be aware that your entire protest—including your personally identifiable information—may be made publicly available at any time. While you can ask us in your protest to withhold your personal identifying information from public review, we cannot guarantee that we will be able to do so. All submissions from organizations and businesses, and from individuals identifying themselves as representatives or officials of organizations or businesses, will be available for public inspection in their entirety.

(Authority: 40 CFR 1501.7 and 43 CFR 1610.2)

John Mehlhoff,
Montana/Dakotas State Director.

[FR Doc. 2020-16276 Filed 7-27-20; 8:45 am]

BILLING CODE 4310-DN-P